DEPARTMENT OF JUSTICE

Antitrust Division

Notice Pursuant to the National Cooperative Research and Production Act of 1993—American Public Transportation Association

Notice is hereby given that, on September 22, 2004, pursuant to Section 6(a) of the National Cooperative Research and Production Act of 1993, 15 U.S.C. 4301 et seq. (“the Act”), American Public Transportation Association (“APTA”) has filed written notifications simultaneously with the Attorney General and the Federal Trade Commission disclosing (1) the name and principal place of business of the standards development organization and (2) the nature and scope of its standards development activities. The notifications were filed for the purpose of involving the Act's provisions limiting the recovery of antitrust plaintiffs to actual damages under specified circumstances.

Pursuant to Section 6(b) of the Act, the name and principal place of business of the standards development organization is: American Public Transportation Association, Washington, DC. The nature and scope of APTA's standards development activities are: APTA participates in five major voluntary standards development programs. These programs cut across all transit modes and are focused on key elements of transit operations and maintenance including the design of bus and rail vehicles, the development of operating practices, inspection and maintenance guidelines for vehicles and facilities, the interoperability and interchangeability of component systems and parts, as well as the adoption of definitions for data structures so that electronic components can exchange information.

Dorothy B. Fountain,
Deputy Director of Operations, Antitrust Division.

[FR Doc. 04-26197 Filed 11-26-04; 8:45 am]

BILLING CODE 4410-11-M